DEPARTMENT OF ENERGY

Federal Energy Regulatory Commission

Combined Notice of Filings #1

April 25, 2007.

Take notice that the Commission received the following electric corporate filings:

Docket Numbers: EC07-61-000.

Applicants: Horsehead Corporation; Horsehead Holding Corporation.

Description: Horsehead Corp. and Horsehead Holding Corp. submit an amendment to its 2/16/07 filing and request expedited action.

Filed Date: 04/24/2007.

Accession Number: 20070424-5037.

Comment Date: 5 p.m. Eastern Time on Friday, May 4, 2007.

Take notice that the Commission received the following electric rate filings:

Docket Numbers: ER01-316-024.

Applicants: ISO New England Inc.

Description: ISO New England, Inc submits its Index of Customers for the first quarter of 2007 in compliance with FERC's 6/1/01 letter order.

Filed Date: 04/18/2007.

Accession Number: 20070423-0006.

Comment Date: 5 p.m. Eastern Time on Wednesday, May 9, 2007.

Docket Numbers: ER01-1699-007.

Applicants: Pilot Power Group, Inc.

Description: Pilot Power Group, Inc submits its Updated Market Analysis.

Filed Date: 04/20/2007.

Accession Number: 20070425-0181.

Comment Date: 5 p.m. Eastern Time on Friday, May 11, 2007.

Docket Numbers: ER04-691-085.

Applicants: Midwest Independent Transmission System Operator, Inc.

Description: Midwest Independent Transmission System Operator, Inc submits proposed revisions to their Open Access Transmission Tariff, FERC Electric Tariff, Third Revised Volume 1.

Filed Date: 04/17/2007.

Accession Number: 20070423-0375.

Comment Date: 5 p.m. Eastern Time on Tuesday, May 8, 2007.

Docket Numbers: ER06-262-003.

Applicants: Pittsfield Generating Company.

Description: Pittsfield Generating Co, LP submits a Refund Report and modified and restated cost-of-service agreement pursuant to the Commission's 4/2/07 order.

Filed Date: 04/19/2007.

Accession Number: 20070423-0374.

Comment Date: 5 p.m. Eastern Time on Thursday, May 10, 2007.

Docket Numbers: ER06-554-002.

Applicants: Virginia Electric & Power Company.

Description: Virginia Electric and Power Co submits a revised Settlement Agreement with Old Dominion Electric Coop et al in compliance with the Commission's 4/3/02 Order.

Filed Date: 04/18/2007.

Accession Number: 20070423-0005.

Comment Date: 5 p.m. Eastern Time on Wednesday, May 9, 2007.

Docket Numbers: ER07-434-002.

Applicants: Jersey Central Power & Light Company; FirstEnergy Solutions Corp.

Description: Jersey Central Power & Light Company et al submit Second Revised Sheet 3 et al to FERC Electric Tariff, First Revised Volumes No 1, et al.

Filed Date: 04/20/2007.

Accession Number: 20070424-0180.

Comment Date: 5 p.m. Eastern Time on Friday, May 11, 2007.

Docket Numbers: ER07-508-001.

Applicants: PJM Interconnection, LLC.

Description: PJM Interconnection, LLC submits an amendment to its proposal to revise its Operating Agreement and Open Access Transmission Tariff etc submitted on 2/2/07 in response to FERC's 4/3/07 directive.

Filed Date: 04/18/2007.

Accession Number: 20070423-0008.

Comment Date: 5 p.m. Eastern Time on Wednesday, May 9, 2007.

Docket Numbers: ER07-572-001.

Applicants: Wisconsin Power and Light Company.

Description: Wisconsin Power and Light Company submits Revised Master Power Supply Agreement with Great Lakes Utilities originally filed on 2/26/07.

Filed Date: 04/19/2007.

Accession Number: 20070423-0007.

Comment Date: 5 p.m. Eastern Time on Thursday, May 10, 2007.

Docket Numbers: ER07-689-001.

Applicants: PJM Interconnection L.L.C.

Description: PJM Interconnection LLC submits revised Interconnection Service Agreement between PJM, Industrial Power Generating Co LLC, and PPL Electric Utilities Corporation.

Filed Date: 04/20/2007.

Accession Number: 20070424-0181.

Comment Date: 5 p.m. Eastern Time on Friday, May 11, 2007.

Docket Numbers: ER07-765-000.

Applicants: American Electric Power Service Corporation.

Description: The American Electric Power Service Corporation agent for AEP Operating Companies submits an interconnection and local delivery service agreement with the Village of Cygnet, Ohio.

Filed Date: 04/20/2007.

Accession Number: 20070424-0182.

Comment Date: 5 p.m. Eastern Time on Friday, May 11, 2007.

Docket Numbers: ER07-766-000.

Applicants: Indiana Michigan Power Company.

Description: Indiana Michigan Power Company submits First Revised Sheet 29 et al which cancels Original Sheet 29 to FERC Rate Schedule 101 etc.

Filed Date: 04/20/2007.

Accession Number: 20070424-0183.

Comment Date: 5 p.m. Eastern Time on Friday, May 11, 2007.

Docket Numbers: ER07-767-000.

Applicants: ISO New England Inc.; New England Power Pool Participants Committee.

Description: ISO New England Inc & New England Power Pool Participants Committee submits Market Rule 1 changes relating to the real-time scheduling of energy transactions over the underwater cable etc.

Filed Date: 04/20/2007.

Accession Number: 20070424-0130.

Comment Date: 5 p.m. Eastern Time on Friday, May 11, 2007.

Docket Numbers: ER07-768-000.

Applicants: Indiana Michigan Power Company.

Description: Indiana Michigan Power Company submits a Notice of cancellation of Rate Schedules 70, 74 and Service Agreement 4 under FERC electric Tariff, Original Volume 4 etc.

Filed Date: 04/20/2007.

Accession Number: 20070424-0185.

Comment Date: 5 p.m. Eastern Time on Friday, May 11, 2007.

Docket Numbers: ER07-769-000.

Applicants: Cedar Rapids Transmission Company, Ltd.

Description: Cedar Rapids Transmission Company, Ltd submits its application for market based rate authority and on 2/23/07 Open Access Transmission Tariff to supplement the 4/20/07 filing.

Filed Date: 04/20/07 and 04/23/2007.

Accession Number: 20070424-0198 and 20070424-0199.

Comment Date: 5 p.m. Eastern Time on Friday, May 11, 2007.

Docket Numbers: ER07-770-000.

Applicants: Williams Power Company, Inc.

Description: Williams Power Company, Inc submits proposed FERC Rate Schedule 3 and supporting cost data under which Williams specifies its revenue requirement for providing cost-based Reactive Supply and Voltage Control etc.

Filed Date: 04/20/2007.

Accession Number: 20070424-0186.

Comment Date: 5 p.m. Eastern Time on Friday, May 11, 2007.

Docket Numbers: ER07-772-000.

Applicants: Midwest Independent Transmission System Operator Inc.

Description: Midwest Independent Transmission System Operator Inc submits proposed revisions to Sheet 208 of its ISO's Open Access Transmission and Energy Markets Tariff.

Filed Date: 04/23/2007.

Accession Number: 20070425-0162.

Comment Date: 5 p.m. Eastern Time on Monday, May 14, 2007.

Docket Numbers: ER07-773-000.

Applicants: Velocity Futures, L.P.

Description: Velocity Futures LP submits its Petition for Acceptance of Initial Rate Schedule, Waivers and Blanket Authority designated as FERC 1.

Filed Date: 04/23/2007.

Accession Number: 20070425-0163.

Comment Date: 5 p.m. Eastern Time on Monday, May 14, 2007.

Docket Numbers: ER07-774-000.

Applicants: Southern California Edison Company.

Description: Southern California Edison Company submits its revised Rate sheets to its Transmission Owner Tariff.

Filed Date: 04/23/2007.

Accession Number: 20070425-0164.

Comment Date: 5 p.m. Eastern Time on Monday, May 14, 2007.

Docket Numbers: ER07-776-000.

Applicants: Westar Energy, Inc.

Description: Westar Energy Inc submits Fourth Revised Sheets 1 and 4 of First Revised Rate Schedule 233, Electric Power Supply Agreement with the City of Robinson, Kansas etc.

Filed Date: 04/23/2007.

Accession Number: 20070425-0159.

Comment Date: 5 p.m. Eastern Time on Monday, May 14, 2007.

Docket Numbers: ER07-777-000.

Applicants: American Electric Power Service Corporation.

Description: American Electric Power Service Corporation agent for AEP Operating Companies submits a first revision to the Interconnection and Local Delivery Service Agreement 1422 with the Village of Deshler.

Filed Date: 04/24/2007.

Accession Number: 20070425-0158.

Comment Date: 5 p.m. Eastern Time on Tuesday, May 15, 2007.

Docket Numbers: ER07-778-000.

Applicants: American Electric Power Service Corporation.

Description: American Electric Power Service Corporation agent for AEP Operating Companies submits a first revision to the Interconnection & Local Delivery Service Agreement 1416 with the Village of Arcadia.

Filed Date: 04/24/2007.

Accession Number: 20070425-0157.

Comment Date: 5 p.m. Eastern Time on Tuesday, May 15, 2007.

Docket Numbers: ER07-779-000.

Applicants: American Electric Power Services Corp.

Description: American Electric Power Service Corporation agent for AEP Operating Companies submits a first revision to the Interconnection and Local Delivery Service Agreement 1423 with the Village of Greenwich.

Filed Date: 04/24/2007.

Accession Number: 20070425-0156.

Comment Date: 5 p.m. Eastern Time on Tuesday, May 15, 2007.

Docket Numbers: ER07-780-000.

Applicants: American Electric Power Service Corporation

Description: American Electric Power Service Corporation agent for AEP Operating Companies submits a first revision to the Interconnection and Local Delivery Service Agreement 1417 with the Village of Bloomdale.

Filed Date: 04/24/2007.

Accession Number: 20070425-0155.

Comment Date: 5 p.m. Eastern Time on Tuesday, May 15, 2007.

Docket Numbers: ER07-781-000.

Applicants: American Electric Power Service Corporation.

Description: American Electric Power Service Corporation agent for AEP Operating Companies submits a first revision to the Interconnection and Local Delivery Service Agreement 1418 with the City of Bryan.

Filed Date: 04/24/2007.

Accession Number: 20070425-0154.

Comment Date: 5 p.m. Eastern Time on Tuesday, May 15, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Kimberly D. Bose,
Secretary.

[FR Doc. E7-8326 Filed 5-1-07; 8:45 am]

BILLING CODE 6717-01-P